CONSUMER PRODUCT SAFETY COMMISSION

[Docket No. CPSC-2012-0058]

Agency Information Collection Activities; Submission for OMB Review; Comment Request—Safety Standard for Walk-Behind Power Lawn Mowers

AGENCY: Consumer Product Safety Commission.

ACTION: Notice.

SUMMARY: As required by the Paperwork Reduction Act of 1995, the Consumer Product Safety Commission (CPSC or Commission), announces that the Commission has submitted to the Office of Management and Budget (OMB) a request for extension of approval for information collection related to testing and recordkeeping requirements in the Safety Standard for Walk-Behind Power Lawn Mowers, previously approved under OMB Control No. 3041-0091. On June 8, 2022, CPSC published a notice in the Federal Register announcing the agency's intent to seek this extension. CPSC received one comment in response to that notice, which we address below.

DATES: Submit written or electronic comments on the collection of information by September 26, 2022.

ADDRESSES: Written comments and recommendations for the proposed information collection should be sent within 30 days of publication of this notice to: www.reginfo.gov/public/do/PRAMain. Find this particular information collection by selecting “Currently under 30-day Review—Open for Public Comments” or by using the search function. In addition, written comments that are sent to OMB also should be submitted electronically at: http://www.regulations.gov, under Docket No. CPSC-2012-0058.

FOR FURTHER INFORMATION CONTACT: Cynthia Gillham, Consumer Product Safety Commission, 4330 East West Highway, Bethesda, MD 20814; (301) 504-7991, or by email to: cgillham@cpsc.gov.

SUPPLEMENTARY INFORMATION: On June 8, 2022, CPSC published a notice in the Federal Register announcing the agency's intent to seek an extension for this information collection. 87 FR 34862. CPSC received one comment in response to that notice from the Outdoor Power Equipment Institute (OPEI). OPEI is a trade association with more than 100 manufacturers and their suppliers of gas and electric-powered outdoor power equipment, including lawn mowers. OPEI requested a meeting with CPSC to discuss two requirements in the standard: walk-behind, rotary power mower protective shields, and warning label for reel type and rotary power mowers. Accordingly, OPEI's letter has been referred to CPSC's Office of Hazard Identification and Reduction for review. Although the commenter did not provide any specific comments on the burden hour estimates made by CPSC, OPEI asserts that there are almost 6 million mowers tested and labelled to meet the CPSC standard each year. In addition, OPEI claims that member manufacturers employ multiple personnel test to the standard, label and apply warnings, and maintain records. All of these requirements, according to OPEI, “requires the use of dedicated technicians, which requires considerable employee time per day per establishment.” Based on OPEI's assertions, CPSC has updated the burden estimates for the collection of information, as follows:

CPSC has increased the estimated time burden for conducting a reasonable testing program from 3 hours daily, to 8 and increased the estimate of the total hour burden for testing by industry from 11,310 hours to 30,160 hours. Accordingly, the estimated annual cost burden for testing by industry is increased from $796,224 to $2,308,936.50. The CPSC hourly wage estimate matches the description of the technical expertise needed, as described by OPEI. With these changes, CPSC seeks to renew the following currently approved collection of information:

Title: Safety Standard for Walk-Behind Power Lawn Mowers.

OMB Number: 3041-0091.

Type of Review: Renewal of collection.

Frequency of Response: On occasion.

Affected Public: Manufacturers and importers of walk-behind power lawn mowers.

Estimated Number of Respondents: Approximately 29 manufacturers and importers of walk-behind power lawn mowers.

Estimated Time per Response: Walk-behind power lawn mowers are manufactured seasonally to meet demand. They are manufactured during an estimated 130 days out of the year. When they are manufactured, firms are required to test and maintain records of those tests. Staff estimates 8 hours daily for testing and recordkeeping per firm, totaling 1040 hours per firm (8 hours × 130 days). In addition, to produce labels and apply labels on the newly manufactured lawn mowers, staff estimates 1 hour daily for each firm during the production cycle for a total of 130 hours per firm (1 hour × 130 days).

Total Estimated Annual Burden: Staff estimates 30,160 hours on testing and recordkeeping (29 firms × 1,040 hours) and 3,770 hours for labeling (29 firms × 130 hours). Aggregate annual burden hours related to testing, recordkeeping, and labeling are estimated to be 1,170 hours (1040 + 130) per firm and 33,930 hours (30,160 + 3,770) for the industry. The annual testing, reporting and recordkeeping costs burden is estimated to be $2,176,044, based on 30,160 hours × $72.15 (total compensation for management, professional, and related workers in goods-producing industries); and the annual cost burden related to labeling is estimated to be $132,892.50, based on 3,770 hours × $35.25 (total compensation for all sales and office workers in goods-producing industries).¹ Aggregate annual burden costs related to testing, recordkeeping, and labeling are estimated to be $2,308,936.50 ($2,176,044 + $132,892.50) for the industry.

¹ Table 4. Private industry workers by occupational and industry group—2022 Q01 Results (bls.gov).

General Description of Collection: In 1979, the Commission issued the Safety Standard for Walk-Behind Power Lawn Mowers (16 CFR part 1205) to address blade contact injuries. Subpart B of the standard sets forth regulations prescribing requirements for a reasonable testing program to support certificates of compliance with the standard for walk-behind power lawn mowers. 16 CFR part 1205, subpart B.

In addition, section 14(a) of the CPSA (15 U.S.C. 2063(a)) requires manufacturers, importers, and private labelers of a consumer product subject to a consumer product safety standard to issue a certificate stating that the product complies with all applicable consumer product safety standards. Section 14(a) of the CPSA also requires that the certificate of compliance must be based on a test of each product or upon a reasonable testing program. The information collection is necessary because these regulations require manufacturers and importers to establish and maintain records to demonstrate compliance with the requirements for testing and labeling to support the certification of compliance.

Abioye Mosheim,
Acting Secretary, Consumer Product Safety Commission.

[FR Doc. 2022-18439 Filed 8-25-22; 8:45 am]

BILLING CODE 6355-01-P